AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Send comments on or before September 3, 2002.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION: OMB NO: OMB 0412-0545.

Form No.: AID 1550-4.

Title: Commodity Request for Foreign Distribution (Voluntary Agency).

Type of Review: Renewal of Information Collection.

Purpose: Public Law 480 states that the President may utilize nonprofit voluntary agencies (PVOs) registered with and approved by the USAID in furnishing food commodities to needy persons outside the United States. The USAID Form 1550-4 is an instrument by which the PVOs communicate their specific needs in this regard to the U.S. Government. This form is used by eligible PVOs to request food commodities for approved country programs overseas and to furnish delivery instructions and other information necessary to ship these commodities to destination ports.

Annual Reporting Burden

Respondents: 70.

Total annual responses: 1,311.

Total annual hours requested: 120 hours.

Dated: June 20, 2002.
Joanne Paskar,
Chief, Information and Records Division, Office of Administrative Services, Bureau for Management.

[FR Doc. 02-16589 Filed 7-01-02; 8:45 am]

BILLING CODE 6116-01-M